DEPARTMENT OF ENERGY

Federal Energy Regulatory Commission

Combined Notice of Filings #1

June 09, 2009.

Take notice that the Commission received the following exempt wholesale generator filings:

Docket Numbers: EG09-49-000.

Applicants: Blackstone Wind Farm, LLC.

Description: Notice of Self-Certification of Exempt Wholesale Generator Status of Blackstone Wind Farm, LLC.

Filed Date: 06/08/2009.

Accession Number: 20090608-5043.

Comment Date: 5 p.m. Eastern Time on Monday, June 29, 2009.

Take notice that the Commission received the following electric rate filings:

Docket Numbers: ER98-1643-013.

Applicants: Portland General Electric Company.

Description: Notice on Non-Material Change in Status of Portland General Electric Company.

Filed Date: 06/08/2009.

Accession Number: 20090608-5091.

Comment Date: 5 p.m. Eastern Time on Monday, June 29, 2009.

Docket Numbers: ER01-596-008; ER01-560-014; ER01-2690-012; ER02-963-012; ER02-2509-009; ER02-1942-011; ER01-559-014; ER01-557-014; ER01-2641-014; ER00-1780-010; ER00-840-011; ER01-137-009; ER02-77-012; ER05-524-007; ER94-389-032; ER98-1767-017; ER99-2992-010; ER99-3165-011.

Applicants: Alabama Electric Marketing, LLC, Big Sandy Peaker Plant, LLC, California Electric Marketing, LLC, Crete Energy Venture, LLC, High Desert Power Project, LLC, Kiowa Power Partners, LLC, Lincoln Generating Facility, LLC, New Mexico Electric Marketing, LLC, Tenaska Alabama Partners, L.P., Tenaska Alabama II Partners, L.P., Tenaska Frontier Partners, Ltd., Tenaska Gateway Partners, Ltd., Tenaska Georgia Partners, L.P., Tenaska Power Services Co., Tenaska Virginia Partners, L.P., Texas Electric Marketing, LLC, University Park Energy, LLC, Wolf Hills Energy, LLC.

Description: Alabama Electric Marketing, LLC et al. submits revised tariff sheets removing references to Replacement Reserves, Non-Spinning Reserves, and Automatic Generation Control from the third party provider provisions.

Filed Date: 06/05/2009.

Accession Number: 20090609-0027.

Comment Date: 5 p.m. Eastern Time on Friday, June 26, 2009.

Docket Numbers: ER01-1527-013; ER01-1529-013.

Applicants: Sierra Pacific Power Company; Nevada Power Company.

Description: Nevada Power Company and Sierra Pacific Power Company, Non-Material Change In Status Filing for Nevada Power Company and Sierra Pacific Power Company.

Filed Date: 06/08/2009.

Accession Number: 20090608-5023.

Comment Date: 5 p.m. Eastern Time on Monday, June 29, 2009.

Docket Numbers: ER08-1404-001.

Applicants: Midwest Independent Transmission System Operator, Inc.

Description: Midwest Independent Transmission System Operator, Inc submits termination of the Independent Market Monitor-Balancing Authority Agreement, Rate Schedule 7, etc.

Filed Date: 06/05/2009.

Accession Number: 20090605-0306.

Comment Date: 5 p.m. Eastern Time on Friday, June 26, 2009.

Docket Numbers: ER09-823-000.

Applicants: MidAmerican Energy Company.

Description: MidAmerican Energy Company submits Answer filed 6/3/09 to the Deficiency Letter issued on 5/4/09.

Filed Date: 06/04/2009.

Accession Number: 20090608-0101.

Comment Date: 5 p.m. Eastern Time on Thursday, June 25, 2009.

Docket Numbers: ER09-988-001; ER09-989-001; ER09-990-001.

Applicants: NextEra Energy Duane Arnold, LLC.

Description: NextEra Energy Duane Arnold, LLC et al. submits an amendment to the market based rate tariff.

Filed Date: 06/05/2009.

Accession Number: 20090609-0031.

Comment Date: 5 p.m. Eastern Time on Friday, June 26, 2009.

Docket Numbers: ER09-1206-000.

Applicants: PacifiCorp.

Description: PacifiCorp submits Transmission Interconnection Agreement for Points of Delivery dated 5/12/09 between Price City and PacifiCorp, to be designated as PacifiCorp Rate Schedule FERC 642.

Filed Date: 05/26/2009.

Accession Number: 20090528-0151.

Comment Date: 5 p.m. Eastern Time on Tuesday, June 16, 2009.

Docket Numbers: ER09-1247-001.

Applicants: California Independent System Operator Corp.

Description: California Independent System Operator Corp submits a corrected version of its 6/1/09 filing of proposed amendments re implement acceleration of the payment timeline.

Filed Date: 06/04/2009.

Accession Number: 20090605-0287.

Comment Date: 5 p.m. Eastern Time on Thursday, June 25, 2009.

Docket Numbers: ER09-1265-001.

Applicants: PacifiCorp.

Description: PacifiCorp submits corrected First Revised Sheet 1 et al. to Original Rate Schedule FERC 615.

Filed Date: 06/08/2009.

Accession Number: 20090609-0085.

Comment Date: 5 p.m. Eastern Time on Monday, June 29, 2009.

Docket Numbers: ER09-1277-000.

Applicants: PJM Interconnection LLC.

Description: PJM Interconnection, LLC submits an executed interconnection service agreement with NAEA Ocean Peaking Power, LLC et al.

Filed Date: 06/04/2009.

Accession Number: 20090605-0286.

Comment Date: 5 p.m. Eastern Time on Thursday, June 25, 2009.

Docket Numbers: ER09-1279-000.

Applicants: American Electric Power Service Corporation.

Description: American Electric Power Service Corporation submits Original Sheet 1 et al. to its First Revised Rate Schedule FERC No 34.

Filed Date: 06/05/2009.

Accession Number: 20090605-0305.

Comment Date: 5 p.m. Eastern Time on Friday, June 26, 2009.

Docket Numbers: ER09-1281-000.

Applicants: California Independent System Operator Corporation.

Description: California Independent System Operator Corp submits an amendment to its tariff re designation of references bus in day-ahead price calculations.

Filed Date: 06/05/2009.

Accession Number: 20090609-0028.

Comment Date: 5 p.m. Eastern Time on Friday, June 26, 2009.

Docket Numbers: ER09-1282-000.

Applicants: ISO New England Inc.

Description: ISO New England Inc., Informational Filing of the Internal Market Monitoring Unit's Report Analyzing the Operations and Effectiveness of the Forward Capacity Market.

Filed Date: 06/05/2009.

Accession Number: 20090605-5160.

Comment Date: 5 p.m. Eastern Time on Friday, June 26, 2009.

Take notice that the Commission received the following open access transmission tariff filings:

Docket Numbers: OA09-22-001.

Applicants: Florida Power & Light Company.

Description: Penalty Distribution Compliance Filing of Florida Power & Light Company.

Filed Date: 06/05/2009.

Accession Number: 20090605-5105.

Comment Date: 5 p.m. Eastern Time on Friday, June 26, 2009.

Any person desiring to intervene or to protest in any of the above proceedings must file in accordance with Rules 211 and 214 of the Commission's Rules of Practice and Procedure (18 CFR 385.211 and 385.214) on or before 5 p.m. Eastern time on the specified Comment Date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. E9-14207 Filed 6-16-09; 8:45 am]

BILLING CODE 6717-01-P